COMMISSION ON CIVIL RIGHTS

Notice of Public Meeting of the Minnesota Advisory Committee for a New Committee Orientation Meeting, To Discuss Civil Rights Issues in the State, and To Plan Future Activities

AGENCY: U.S. Commission on Civil Rights.

ACTION: Notice of meeting.

SUMMARY: Notice is hereby given, pursuant to the provisions of the rules and regulations of the U.S. Commission on Civil Rights (Commission) and the Federal Advisory Committee Act that the Minnesota Advisory Committee (Committee) will hold a meeting on Wednesday, August 31, 2016. The meeting will include an orientation of the Committee scope and duties for new members, a discussion of current civil rights issues in Minnesota, and a discussion of plans for the next Committee project. Members of the Advisory Committee will be presenting issues that they believe the Committee should research and issue a report to the Commission.

DATES: The meeting will be held on Wednesday, August 31, 2016, 1:00-3:00 p.m. CDT.

ADDRESSES: The meeting will be held at: City Hall, Martin Luther King Conference Room 241, 350 S. Fifth St.—Rm. 241, Minneapolis, MN 55415.

FOR FURTHER INFORMATION CONTACT: Members of the public are invited to make statements into the record at the meeting at the designated open comment period. Members of the public are also entitled to submit written comments; the comments must be received in the regional office within 30 days following the meeting. Written comments may be mailed to the Midwestern Regional Office, U.S. Commission on Civil Rights, 55 W. Monroe St., Suite 410, Chicago, IL 60603. They may also be faxed to the Commission at (312) 353-8324, or emailed to Carolyn Allen at callen@usccr.gov. Persons who desire additional information may contact the Midwestern Regional Office at (312) 353-8311.

Hearing-impaired persons who will attend the meeting and require the services of a sign language interpreter should contact the Midwestern Regional Office at least ten (10) working days before the scheduled date of the meeting.

Records generated from this meeting may be inspected and reproduced at the Midwestern Regional Office, as they become available, both before and after the meeting. Records of the meeting will be available via www.facadatabase.gov under the Commission on Civil Rights, Minnesota Advisory Committee link (https://database.faca.gov/committee/meetings.aspx?cid=256). Click on “meeting details” and then “documents” to download. Persons interested in the work of this Committee are directed to the Commission's Web site, http://www.usccr.gov, or may contact the Midwestern Regional Office at the above email or street address.

SUPPLEMENTARY INFORMATION:

Agenda:

Welcome and Introductions

Committee Orientation

• Ethics

• Jurisdiction and Scope of Duties

• Project Process and Examples

Discussion of Current Civil Rights Issues in Minnesota

Open Comment

Future Plans and Actions

Adjournment

Dated July 29, 2016.
David Mussatt,
Chief, Regional Programs Unit.

[FR Doc. 2016-18440 Filed 8-3-16; 8:45 am]

BILLING CODE 6335-01-P